DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of July 9 through July 13, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-61,603; Gage Pattern Inc., Norway, ME: May 30, 2006

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-61,622; ADP Leo Wolleman, Inc., d/b/a Color Craft, New York, NY: June 2, 2006

TA-W-61,705; RF Monolithics, Inc., Dallas, TX: June 18, 2006

TA-W-61,706; Wheeling-Pittsburgh Steel, Mingo Junction, OH: May 31, 2006

TA-W-61,741; Ameriwood Industries, Inc., A Wholly Owned Subsidiary of Dorel Industries, Dowagiac, MI: June 19, 2006

TA-W-61,484; Intermet Corporation, Lynchburg Foundry LLC, Lynchburg, VA: May 3, 2006

TA-W-61,500; Lancaster Glass Corp, Lancaster, OH: April 17, 2006

TA-W-59,929; Cochrane Furniture Co., Case Division, Lincolnton, NC: August 5, 2005.

The following certifications have been issued. The requirements of Section 222(a)(2)(B) (shift in production) and Section 246(a)(3)(A)(ii) of the Trade Act have been met.

TA-W-61,675; American Kleaner Manufacturing Company, Select Temporary Staffing, Rancho Cucamonga, CA: June 12, 2006

TA-W-61,688; Saline Metal Systems, LLC, Saline Division, On-Site Leased Workers of Phoenix Services, LLC, Saline, MI: June 14, 2006

TA-W-61,690; Kentucky Derby Hosiery, Hopkinsville, KY: June 12, 2006

TA-W-61,694; Kone, Inc, McKinney, TX: June 11, 2006

TA-W-61,698; Dan River Inc., New York, NY: February 17, 2007

TA-W-61,718; U.S. Optical Disc, Inc., Sanford, ME: June 20, 2006

TA-W-61,739; Solectron Puerto Rico, Ltd, Ponce, PR: June 22, 2006

TA-W-61,594; Robert Bosch Tool Corporation, Holesaw Department, Lincolnton, NC: May 29, 2006

TA-W-61,594A; Robert Bosch Tool Corporation, Router Table Department, Lincolnton, NC: May 29, 2006

TA-W-61,733; Tubular Textile Machinery, Inc., d/b/a Navis Global Division, Lexington, NC: June 21, 2006

TA-W-61,736; Jones Companies, Ltd, 312 South 14th Plant, On-Site Leased Workers of Personnel Placements, Humboldt, TN: June 13, 2006

TA-W-61,747; Kimball Electronics, Kelly Services, Gaylord, MI: June 24, 2006

TA-W-61,756; Rogers Corporation, Durel Division, Chandler, AZ: June 26, 2006

The following certifications have been issued. The requirements of Section 222(b) (supplier to a firm whose workers are certified eligible to apply for TAA) and Section 246(a)(3)(A)(ii) of the Trade Act have been met.

TA-W-61,553; Honeywell Resins and Chemicals, Resins and Chemicals Division, On-Site Leased Workers of Defender Services, Anderson, SC: May 21, 2006

TA-W-61,731; Biesemeyer Manufacturing Corp., On-Site Leased Workers of Allied Forces Temporary Services, Mesa, AZ: June 19, 2006

The following certifications have been issued. The requirements of Section 222(b) (downstream producer for a firm whose workers are certified eligible to apply for TAA based on increased imports from or a shift in production to Mexico or Canada) and Section 246(a)(3)(A)(ii) of the Trade Act have been met.

TA-W-61,664; Quality Inspection & Consulting, Linden, TN: May 31, 2006

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-61,603; Gage Pattern Inc., Norway, ME

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,702; Hewlett Packard Co., Vancouver, WA

TA-W-61,723; Robin Industries, Inc., Fredericksburg Division, Fredericksburg, OH.

The investigation revealed that criteria (a)(2)(A)(I.B.) (Sales or production, or both, did not decline) and (a)(2)(B)(II.B.) (shift in production to a foreign country) have not been met.

TA-W-61,627; Kimberly Clark Corporation, On-Site Leased

Workers From Warehouse Specialists, Corinth, MS

The investigation revealed that criteria (a)(2)(A)(I.C.) (increased imports) and (a)(2)(B)(II.B.) (shift in production to a foreign country) have not been met.

TA-W-61,207; Gorecki Manufacturing, Inc., Milaca, MN.

TA-W-61,377; Mereen-Johnson Machine Company, Minneapolis, MN.

TA-W-61,760; Hutchinson Technology, Eau Claire, WI.

TA-W-61,531; James Jones Company, El Monte, CA.

The workers' firm does not produce an article as required for certification under Section 222 of the Trade Act of 1974.

TA-W-61,606; Qwest Services Corporation, Quality Assurance Team, Denver Sales Center, Denver, CO.

TA-W-61,617; Ryder Integrated Logistics, Inc., Spring Hill, TN.

TA-W-61,724; Nukote International, Franklin, TN.

TA-W-61,762; St. Anthony's Health Center, Patient and Accounts Billing Department, Alton, IL.

TA-W-61,763; Unicare Life and Health Insurance Co., A Subsidiary of Wellpoint, Inc., Bolingbrook, IL.

The investigation revealed that criteria of Section 222(b)(2) has not been met. The workers' firm (or subdivision) is not a supplier to or a downstream producer for a firm whose workers were certified eligible to apply for TAA.

None.

I hereby certify that the aforementioned determinations were issued during the period of July 9 through July 13, 2007. Copies of these determinations are available for inspection in Room C-5311, U.S. Department of Labor, 200 Constitution Avenue, NW., Washington, DC 20210 during normal business hours, or will be mailed to persons who write to the above address.

Dated: July 20,2007.
Richard Church,
Certifying Officer, Division of Trade Adjustment Assistance.

[FR Doc. E7-14416 Filed 7-25-07; 8:45 am]

BILLING CODE 4510-FN-P